FEDERAL MINE SAFETY AND HEALTH REVIEW COMMISSION

Sunshine Act Meeting

July 23, 2003.

Time and Date: 10 a.m., Thursday, July 24, 2003.

Place: Hearing Room, 9th Floor, 601 New Jersey Avenue, NW., Washington, DC.

Status: Open.

Matters to be Considered: The Commission will consider and act upon the following in open session: Secretary of Labor v. Black Butte Coal Co., Docket Nos. WEST 2001-166-RM and WEST 2002-223. (Issues include whether the Commission should grant interlocutory review on the question of whether the judge erred in denying the operator's motion to dismiss based upon the Secretary's delay in proposing a penalty assessment.)

No earlier announcement of the meeting was possible.

FOR FURTHER INFORMATION CONTACT: Jean Ellen, (202) 434-9950/(202) 708-9300 for TDD Relay/1-800-877-8339 for toll free.

Jean H. Ellen,
Chief Docket Clerk.

[FR Doc. 03-19895 Filed 7-31-03; 12:20 am]

BILLING CODE 6735-01-M